SMALL BUSINESS ADMINISTRATION

[Declaration of Disaster #3414]

State of New York (Amendment #1)

In accordance with a notice received from the Federal Emergency Management Agency, dated May 30, 2002, the above numbered declaration is hereby amended to include Franklin, Hamilton, Warren, and Washington Counties in the State of New York as disaster areas due to damages caused by an earthquake occurring on April 20, 2002.

In addition, applications for economic injury loans from small businesses located in the following contiguous counties may be filed until the specified date at the previously designated location: Fulton, Herkimer, Rensselaer, Saratoga, and St. Lawrence Counties in the State of New York, and Bennington and Rutland Counties in the State of Vermont.

All other counties contiguous to the above named primary counties have previously been declared.

All other information remains the same, i.e., the deadline for filing applications for physical damage is July 15, 2002, and for economic injury the deadline is February 17, 2003.

(Catalog of Federal Domestic Assistance Program Nos. 59002 and 59008).
Dated: June 3, 2002.
Herbert L. Mitchell,
Associate Administrator for Disaster Assistance.

[FR Doc. 02-14448 Filed 6-7-02; 8:45 am]

BILLING CODE 8025-01-P